DEPARTMENT OF THE INTERIOR

Bureau of Land Management

[MT-926-1910-BJ-5RSD]

Montana: Filing of Plat of Survey

AGENCY: Bureau of Land Management, Montana State Office, Interior.

ACTION: Notice of filing of plat of survey.

SUMMARY: The Bureau of Land Management (BLM) will file the plat of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Fort Peck Agency, through the Rocky Mountain Regional Director, Bureau of Indian Affairs, and was necessary to determine Trust and Tribal land.

The lands we surveyed are:

Principal Meridian, Montana

T. 3 S., R. 33 E.

The plat, in 2 sheets, representing the dependent resurvey of a portion of the Buffalo Creek Guide Meridian, through Township 3 South, a portion of the subdivisional lines, a portion of the subdivision of section 18, the adjusted original meanders of the former right and left banks of the Big Horn River, downstream, through section 18, and the subdivision of section 18, and the survey of a portion of the meanders of the present right bank of the Big Horn River, downstream, through section 18, the meanders of the former right and left banks of two relicted channels of the Big Horn River, downstream, through section 18, the limits of erosion, through section 18, the medial line of two relicted channels of the Big Horn River, through section 18, and certain division of accretion and partition lines Township 3 South, Range 33 East, Principal Meridian, Montana, was accepted July 18, 2008.

We will place a copy of the plat, in 2 sheets, and related field notes we described in the open files. They will be available to the public as a matter of information.

If BLM receives a protest against this survey, as shown on this plat, in two sheets, prior to the date of the official filing, we will stay the filing pending our consideration of the protest.

We will not officially file this plat, in two sheets, until the day after we have accepted or dismissed all protests and they have become final, including decisions or appeals.

Dated: July 24, 2008.
Michael T. Birtles,
Chief Cadastral Surveyor, Division of Resources.

[FR Doc. E8-17613 Filed 7-31-08; 8:45 am]

BILLING CODE 4310-$$-P